DEPARTMENT OF LABOR

Employment and Training Administration

[TA-W-81,755]

Thomson Reuters, Finance Operations & Technology Division, Including On-Site Leased Workers From Adecco; Eagan, MN; Amended Certification Regarding Eligibility To Apply for Worker Adjustment Assistance

In accordance with Section 223 of the Trade Act of 1974, as amended (“Act”), 19 U.S.C. 2273, the Department of Labor issued a Certification of Eligibility to Apply for Worker Adjustment Assistance on August 2, 2012, applicable to workers of Thomson Reuters, Finance Operations & Technology Division, including on-site leased workers from Adecco, Eagan, Minnesota. The notice was published in the Federal Register on August 16, 2012 (77 FR 49459).

At the request of the State agency, the Department reviewed the certification for workers of the subject firm. The workers are engaged in activities related to the supply of financial and administrative services.

New findings show that workers of Thomson Reuters, Finance Operations & Technology Division, including on-site leased workers from Adecco, Eagan, Minnesota were certified to apply for adjustment assistance under petition number TA-W-73,198. That certification expired on June 21, 2012. Accordingly, the Department is amending this certification to correct the impact date.

The amended notice applicable to TA-W-81,755 is hereby issued as follows:

All workers of Thomson Reuters, Finance Operations & Technology Division, including on-site leased workers from Adecco, Eagan, Minnesota, who became totally or partially separated from employment on June 22, 2012 through August 2, 2014, and all workers in the group threatened with total or partial separation from employment on June 22, 2012 through August 2, 2014, are eligible to apply for adjustment assistance under Chapter 2 of Title II of the Trade Act of 1974, as amended.

Signed in Washington, DC, this 17th day of January 2013.
Michael W. Jaffe,
Certifying Officer, Office of Trade Adjustment Assistance.

[FR Doc. 2013-02538 Filed 2-5-13; 8:45 am]

BILLING CODE 4510-FN-P